SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than July 29, 2013. Individuals can obtain copies of the collection instruments by writing to the above email address.

1. Application for Child's Insurance Benefits—20 CFR 404.350-404.368, 404.603, & 416.350—0960-0010. Title II of the Social Security Act (Act) provides for the payment of monthly benefits to children of an insured retired, disabled, or deceased worker. Section 202(d) of the Act discloses the conditions and requirements the applicant must meet when filing an application. SSA uses the information on Form SSA-4-BK to determine entitlement for children of living and deceased workers to monthly Social Security payments. Respondents are guardians completing the form on behalf of the children of living or deceased workers, or the children of living or deceased workers.

Type of Request: Revision of an OMB-approved information collection.

Modality of completion | Number of respondents | Frequency of response | Average burden per response (minutes) | Estimated total annual burden (hours)
Life Claims (paper) | 18,500 | 1 | 12 | 3,700
Life Claims (MCS) | 351,500 | 1 | 12 | 70,300
Life Claims—Signature Proxy | 351,500 | 1 | 11 | 64,442
Death Claims (paper) | 6,000 | 1 | 12 | 1,200
Death Claims (MCS) | 114,000 | 1 | 12 | 22,800
Death Claims—Signature Proxy | 114,000 | 1 | 11 | 20,900
Totals | 955,500 |  |  | 183,342

2. Application Status—20 CFR 401.45—0960-0763. Application Status provides users with the capability to check the status of their pending Social Security claims, either via the Internet or the National 800 Number Automated Telephone Service. Users need their Social Security number and a confirmation number to access this information. The Application Status shows users when SSA received the application, if we requested additional documents (e.g., military discharge papers, W-2s, birth records, etc.), and provides the address for the office processing the application. Once SSA makes a decision on a claim, we post a copy of the decision notice online for the user to view. There are some exceptions to posting a copy online, such as disability denial notices (even if filed electronically) or claims users did not file via the Internet, as we may not have those notices available for online review. Respondents are current Social Security claimants who wish to check the status of their claims either through the Internet or the National 800 Number.

Type of Request: Revision of an OMB-approved information collection.

Modality of completion | Number of respondents | Frequency of response | Average burden per response (minutes) | Estimated total annual burden (hours)
Automated Telephone Services | 498,477 | 1 | 2 | 16,616
Internet Services | 6,032,016 | 1 | 1 | 100,534
Totals | 6,530,493 |  |  | 117,150

II. SSA submitted the information collections below to OMB for clearance. Your comments regarding the information collections would be most useful if OMB and SSA receive them 30 days from the date of this publication. To be sure we consider your comments, we must receive them no later than July 1, 2013. Individuals can obtain copies of the OMB clearance packages by writing to OR.Reports.Clearance@ssa.gov.

1. Agency/Employer Government Pension Offset Questionnaire—20 CFR 404.408(a)—0960-0470. When an individual is concurrently receiving Social Security spousal or surviving spousal benefits and a government pension, the individual may have the amount of Social Security benefits reduced by the government pension amount. This is the Government Pension Offset (GPO). SSA uses Form SSA-L4163 to collect accurate pension information from the Federal or State government agency paying the pension for purposes of applying the pension offset provision. SSA uses this form only when (1) the claimant does not have the information; and (2) the pension-paying agency has not cooperated with the claimant. Respondents are State government agencies that have information SSA needs to determine if the GPO applies and the amount of offset.

Type of Request: Revision of an OMB-approved information collection.

Modality of completion | Number of respondents | Frequency of response | Average burden perresponse (minutes) | Estimated total annual burden (hours)
SSA-L4163 | 1,000 | 1 | 3 | 50

2. Function Report—Child: Birth to 1st Birthday (SSA-3375), Age 1 to 3rd Birthday (SSA-3376), Age 3 to 6th Birthday (SSA-3377), Age 6 to 12th Birthday, (SSA-3378), and Age 12 to 18th Birthday (SSA-3379)—20 CFR 416.912—0960-0542. SSA uses Forms SSA-3375-BK through SSA-3379-BK in the disability determination process to request information from a child's parent or guardian for children applying for Supplemental Security Income (SSI). The five different versions of the form contain questions about the child's day-to-day functioning appropriate to a particular age group; thus, respondents use only one version of the form for each child.

The adjudicative team (disability examiners and medical or psychological consultants) of State disability determination services offices collect the information on the appropriate version of this form (in conjunction with medical and other evidence) to form a complete picture of the children's ability to function and their impairment-related limitations. The adjudicative team uses the completed profile to determine whether each child's impairment(s) results in marked and severe functional limitations and whether each child is disabled. The respondents are parents and guardians of child applicants for SSI.

Type of Request: Revision of an OMB-approved information collection.

Modality of completion | Number of respondents | Frequency of response | Average burden per response (minutes) | Estimated total annual burden (hours)
Function Report—Child: Birth to 1st Birthday (SSA-3375), Age 1 to 3rd Birthday (SSA-3376), Age 3 to 6th Birthday (SSA-3377), Age 6 to 12th Birthday, (SSA-3378), and Age 12 to 18th Birthday (SSA-3379) | 660,000 | 1 | 20 | 220,000

3. Technical Updates to Applicability of the Supplemental Security Income (SSI) Reduced Benefit Rate for Individuals Residing in Medical Treatment Facilities—20 CFR 416.708(k)—0960-0758. Section 1611(e)(1)(A) of the Act states that residents of public institutions are ineligible for SSI. However, sections 1611(e)(1)(B) and (G) list certain exceptions to this provision making it necessary for SSA to collect information about SSI recipients who enter or leave a medical treatment facility or other public or private institution. SSA's regulation 20 CFR 416.708(k) establishes the reporting guidelines implementing this legislative requirement. SSA collects the information to determine eligibility for SSI and the payment amount. The respondents are SSI recipients who enter or leave an institution.

Type of Request: Extension of an OMB-approved information collection.

Modality of completion | Number of respondents | Frequency of response | Average burden per response (minutes) | Estimated total annual burden (hours)
Technical Updates Statement | 34,200 | 1 | 7 | 3,990

Dated: May 24, 2013.
Faye Lipsky,
Reports Clearance Director, Social Security Administration.

[FR Doc. 2013-12808 Filed 5-29-13; 8:45 am]

BILLING CODE 4191-02-P